DEPARTMENT OF AGRICULTURE

Economic Research Service

Agency Information Collection Activities: Comment Request

AGENCY: Economic Research Service (ERS), USDA.

ACTION: Notice and request for comments.

SUMMARY: In accordance with the Paperwork Reduction Act of 1995, this notice announces the intention of the Economic Research Service's (ERS) to request a renewal to a currently approved information collection on supplemental food security questions in the Current Population Survey (CPS).

DATES: Comments on this notice must be received by September 16, 2024 to be assured of consideration.

ADDRESSES: Address all comments concerning this notice to julie.parker3@usda.gov and ers.pra@usda.gov identified by docket number 0536-0043.

FOR FURTHER INFORMATION CONTACT: Requests for additional information or copies of this information collection should be directed to Julie Parker at ers.pra@usda.gov or 202-868-7945.

SUPPLEMENTARY INFORMATION:

Title: Current Population Survey Food Security Supplement.

OMB Number: 0536-0043.

Expiration Date of Approval: March 31, 2025.

Type of Request: Renewal of currently approved information collection.

Abstract: In accordance with the Paperwork Reduction Act of 1995 (Pub. L. 104-13) and OMB regulations at 5 CFR part 1320 (60 FR 44978, August 29, 1995), this notice announces the ERS intention to request renewal of approval for an annual information collection. The U.S. Census Bureau supplements the December CPS with questions regarding household food shopping, use of food and nutrition assistance programs, food sufficiency, and difficulties in meeting household food needs.

ERS is one of the 13 principal statistical agencies of the federal government and is responsible for conducting studies and producing statistics on food security in U.S. households. The data collected by the food security supplement will be used to monitor the prevalence of food security and the prevalence and severity of food insecurity among the Nation's households. The prevalence of these conditions as well as year-to-year trends in their prevalence will be estimated at the national level and for population subgroups. The data will also be used to monitor the amounts that households spend for food and their use of community food pantries and other community food assistance. These statistics along with research based on the data will be used to identify the causes and consequences of food insecurity, and to assess the need for, and performance of, domestic food and nutrition assistance programs. The data will also be used to improve the measurement of food security and to develop measures of additional aspects and dimensions of food security. This consistent measurement of the extent and severity of food insecurity will aid in policy decision-making.

The supplemental survey instrument was developed in conjunction with food security experts nationwide as well as survey method experts within the Census Bureau and was reviewed in 2006 by the Committee on National Statistics of the National Research Council.

Authority: Legislative authority for the planned data collection are 7 U.S.C. 2204(a) and 7 CFR 2.67. These statutes and regulations authorize the Secretary of Agriculture and the Administrator of the Economic Research Service to conduct research and collect statistics on the U.S. food system, consumers, and human nutrition.

Confidentiality: The Census Bureau collects data for the Current Population Survey under the authority of Title 13, U.S. Code, section 8b, which allows the Census Bureau to undertake surveys for other government agencies. Under Title 13, U.S. Code, section 9 the Census Bureau holds all information in strict confidence. Information reported in the survey which would permit the identification of a household or any of its members is not reported to anyone outside of the Census Bureau. Any Census Bureau employee who violates these provisions is subject to a fine of up to $250,000, a Federal prison sentence of up to five years, or both.

Estimate of Burden: Public reporting burden for this collection of information is estimated to average 7.1 minutes per response.

Respondents: Households.

Estimated Number of Annual Respondents: 51,937.

Estimated Total Annual Burden on Respondents: 6,108 hours.

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; (d) ways to minimize the burden of the collection of information on those who are to respond, including through the use of appropriate automated, electronic, mechanical, or other technological collection techniques or other forms of information technology. Comments should be sent to the address in the preamble. All responses to this notice will be summarized and included in the request for OMB approval. All comments will also become a matter of public record.

Spiro Stefanou,
Administrator, Economic Research Service, United States Department of Agriculture.

[FR Doc. 2024-15635 Filed 7-15-24; 8:45 am]

BILLING CODE 3410-18-P